DEPARTMENT OF TRANSPORTATION

Federal Aviation Administration

14 CFR Part 39

[Docket No. FAA-2025-0481; Project Identifier AD-2024-00614-T; Amendment 39-23212; AD 2025-25-04]

RIN 2120-AA64

Airworthiness Directives; The Boeing Company Airplanes

AGENCY: Federal Aviation Administration (FAA), DOT.

ACTION: Final rule.

SUMMARY: The FAA is superseding Airworthiness Directive (AD) 2023-09-04, which applied to certain The Boeing Company Model 737-600, -700, -700C, -800, -900, and -900ER series airplanes, and certain Model 737-8 and -9 airplanes. AD 2023-09-04 required inspecting all escape slide assemblies to identify affected parts and replacing affected escape slide assemblies with different assemblies. This AD was prompted by the determination that additional airplanes might be affected by the unsafe condition. This AD retains the requirements of AD 2023-09-04 and requires those actions for additional airplanes, including Model 737-8200 airplanes. The FAA is issuing this AD to address the unsafe condition on these products.

DATES: This AD is effective January 16, 2026.

The Director of the Federal Register approved the incorporation by reference of a certain publication listed in this AD as of January 16, 2026.

The Director of the Federal Register approved the incorporation by reference of certain other publications listed in this AD as of June 29, 2023 (88 FR 33817, May 25, 2023).

ADDRESSES:

AD Docket: You may examine the AD docket at regulations.gov under Docket No. FAA-2025-0481; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0481.

FOR FURTHER INFORMATION CONTACT: Katherine Venegas, Aviation Safety Engineer, FAA, 2200 South 216th St., Des Moines, WA 98198; phone: 562-627-5353; email: katherine.venegas@faa.gov.

SUPPLEMENTARY INFORMATION:

Background

The FAA issued a notice of proposed rulemaking (NPRM) to amend 14 CFR part 39 to supersede AD 2023-09-04, Amendment 39-22427 (88 FR 33817, May 25, 2023) (AD 2023-09-04). AD 2023-09-04 applied to certain The Boeing Company Model 737-600, -700, -700C, -800, -900, and -900ER series airplanes, and certain Model 737-8 and -9 airplanes. The NPRM was published in the Federal Register on April 10, 2025 (90 FR 15321). The NPRM was prompted by the determination that additional airplanes might be affected by the unsafe condition. In the NPRM, the FAA proposed to continue to require the actions in AD 2023-09-04 and requires those actions for additional airplanes, including Model 737-8200 airplanes. The FAA is issuing this AD to address inflation of the escape slide while it is in the escape slide compartment, which could result in injury to passengers and crew during normal operation, or impede an emergency evacuation by rendering the exit unusable.

Discussion of Final Airworthiness Directive

Comments

The FAA received comments from the Air Line Pilots Association, International (ALPA), Aviation Partners Boeing (APB), Boeing, ProTech Aero Services Limited (ProTech), and United Airlines who supported the NPRM without change.

The FAA received an additional comment from the Turkish Airlines. The following presents the comment received on the NPRM and the FAA's response to the comment.

Request To Revise the Credit for Previous Actions Paragraph

Turkish Airlines requested that the FAA revise paragraph (j)(1) of the proposed AD to provide credit for the actions specified in paragraph (g) of the proposed AD if those actions were performed before the effective date of the proposed AD, using Boeing Special Attention Requirements Bulletin 737-25-1855 RB, dated August 31, 2021; or Boeing Special Attention Requirements Bulletin 737-25-1866 RB, dated September 27, 2021; as applicable. In the NPRM, the FAA proposed to provide credit only if those actions were performed before June 29, 2023 (the effective date of AD 2023-09-04). The commenter stated that paragraph (j)(1) of the proposed AD does not cover actions performed between June 29, 2023, and the effective date of the proposed AD.

The FAA disagrees with the request. Paragraphs (g) and (j)(1) of this AD retain the requirements of paragraphs (g) and (i), respectively, of AD 2023-09-04 with no changes. Accordingly, paragraph (j)(1) of this AD provides credit for the requirements of paragraph (g) of this AD using the original issue of the applicable requirements bulletin, only if performed before June 29, 2023. After June 29, 2023, the requirements of paragraph (g) must be accomplished using Revision 1 of the applicable requirements bulletin. If operators would like to use the original issue of the applicable requirements bulletin after June 29, 2023, operators must request approval to use that service information as an alternative method of compliance (AMOC) under the provisions of paragraph (k) of this AD. The FAA has not changed the AD in this regard.

Conclusion

The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed Boeing Special Attention Requirements Bulletin 737-25-1866 RB, Revision 2, dated July 19, 2024. This material specifies procedures for inspecting all escape slide assemblies to identify any escape slide assembly having part number (P/N) 5A3307-7 and replacing it with an assembly having P/N 5A3307-9 or P/N 5A3307-701. Escape slide assembly P/N 5A3307-701 is one on which a firing cable retention has been modified and the assembly has been reidentified with a new part number.

This AD also requires Boeing Special Attention Requirements Bulletin 737-25-1855 RB, Revision 1, dated April 13, 2022; and Boeing Special Attention Requirements Bulletin 737-25-1866 RB, Revision 1, dated April 11, 2022, which the Director of the Federal Register approved for incorporation by reference as of June 29, 2023 (88 FR 33817, May 25, 2023).

This material is reasonably available because the interested parties have access to it through their normal course of business or by the means identified in the ADDRESSES section.

Costs of Compliance

The FAA estimates that this AD affects 2,666 airplanes of U.S. registry. The FAA estimates the following costs to comply with this AD:

Estimated Costs
Action | Labor cost | Parts cost | Cost per product | Cost on U.S. operators
Inspection or maintenance records review (retained action from AD 2023-09-04) | 2 work-hours × $85 per hour = $170 | $0 | $170 | $425,340 (2,502 airplanes)
Inspection or maintenance records review (new action) | 2 work-hours × $85 per hour = $170 | 0 | 170 | $27,880 (164 airplanes)

The FAA estimates the following costs to do any replacements that would be required based on the results of the inspection. The agency has no way of determining the number of aircraft that might need these replacements:

On-Condition Costs
Action | Labor cost | Parts cost | Cost per product
Replacement | Up to 1 work hour × $85 per hour = up to $85 | Up to $19,000 | Up to $19,085 per escape slide assembly.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-09-04, Amendment 39-22427 (88 FR 33817, May 25, 2023); and

b. Adding the following new AD:

2025-25-04 The Boeing Company: Amendment 39-23212; Docket No. FAA-2025-0481; Project Identifier AD-2024-00614-T.

(a) Effective Date

This airworthiness directive (AD) is effective January 16, 2026.

(b) Affected ADs

This AD replaces AD 2023-09-04, Amendment 39-22427 (88 FR 33817, May 25, 2023) (AD 2023-09-04).

(c) Applicability

This AD applies to The Boeing Company Model 737-600, -700, -700C, -800, -900, and -900ER series airplanes, and Model 737-8, 737-9, and 737-8200 airplanes, certificated in any category.

(d) Subject

Air Transport Association (ATA) of America Code 25, Equipment/furnishings.

(e) Unsafe Condition

This AD was prompted by reports of uncommanded escape slide deployments in the passenger compartment, caused by too much tension in the inflation cable and the movement of the escape slide assembly in the escape slide compartment. The FAA is issuing this AD to address inflation of the escape slide while it is in the escape slide compartment, which could result in injury to passengers and crew during normal operation, or impede an emergency evacuation by rendering the exit unusable.

(f) Compliance

Comply with this AD within the compliance times specified, unless already done.

(g) Retained Inspection, With No Changes

This paragraph restates the requirements of paragraph (g) of AD 2023-09-04, with no changes. For airplanes identified in Boeing Special Attention Requirements Bulletin 737-25-1855 RB, Revision 1, dated April 13, 2022; and Boeing Special Attention Requirements Bulletin 737-25-1866 RB, Revision 1, dated April 11, 2022: Except as specified in paragraph (i) of this AD, at the applicable times specified in the “Compliance” paragraph of Boeing Special Attention Requirements Bulletin 737-25-1855 RB, Revision 1, dated April 13, 2022; and Boeing Special Attention Requirements Bulletin 737-25-1866 RB, Revision 1, dated April 11, 2022, do all applicable actions identified in, and in accordance with, the Accomplishment Instructions of Boeing Special Attention Requirements Bulletin 737-25-1855 RB, Revision 1, dated April 13, 2022 (for Model 737-600, -700, -700C, -800, -900, and -900ER series airplanes); and Boeing Special Attention Requirements Bulletin 737-25-1866 RB, Revision 1, dated April 11, 2022 (for Model 737-8 and -9 airplanes); as applicable.

Note 1 to paragraph (g): Guidance for accomplishing the actions required by paragraph (g) of this AD can be found in Boeing Special Attention Service Bulletin 737-25-1855, Revision 1, dated April 13, 2022, which is referred to in Boeing Special Attention Requirements Bulletin 737-25-1855 RB, Revision 1, dated April 13, 2022.

Note 2 to paragraph (g): Guidance for accomplishing the actions required by paragraph (g) of this AD can be found in Boeing Special Attention Service Bulletin 737-25-1866, Revision 1, dated April 11, 2022, which is referred to in Boeing Special Attention Requirements Bulletin 737-25-1866 RB, Revision 1, dated April 11, 2022.

(h) New Required Actions

For airplanes not identified in Boeing Special Attention Requirements Bulletin 737-25-1855 RB, Revision 1, dated April 13, 2022; or Boeing Special Attention Requirements Bulletin 737-25-1866 RB, Revision 1, dated April 11, 2022: Except as specified in paragraph (i) of this AD, at the applicable times specified in the “Compliance” paragraph of Boeing Special Attention Requirements Bulletin 737-25-1855 RB, Revision 1, dated April 13, 2022; and Boeing Special Attention Requirements Bulletin 737-25-1866 RB, Revision 2, dated July 19, 2024, do all applicable actions identified in, and in accordance with, the Accomplishment Instructions of Boeing Special Attention Requirements Bulletin 737-25-1855 RB, Revision 1, dated April 13, 2022 (for Model 737-600, -700, -700C, -800, -900, and -900ER series airplanes), and Boeing Special Attention Requirements Bulletin 737-25-1866 RB, Revision 2, dated July 19, 2024 (for Model 737-8, 737-9, and 737-8200 airplanes); as applicable.

Note 3 to paragraph (h): Guidance for accomplishing the actions required by paragraph (h) of this AD can be found in Boeing Special Attention Service Bulletin 737-25-1855, Revision 1, dated April 13, 2022, which is referred to in Boeing Special Attention Requirements Bulletin 737-25-1855 RB, Revision 1, dated April 13, 2022.

Note 4 to paragraph (h): Guidance for accomplishing the actions required by paragraph (h) of this AD can be found in Boeing Special Attention Service Bulletin 737-25-1866, Revision 2, dated July 19, 2024, which is referred to in Boeing Special Attention Requirements Bulletin 737-25-1866 RB, Revision 2, dated July 19, 2024.

(i) Exceptions to Requirements Bulletin Specifications

(1) For paragraph (g) of this AD: Where the Compliance Time columns of the tables in the “Compliance” paragraph of Boeing Special Attention Requirements Bulletin 737-25-1855 RB, Revision 1, dated April 13, 2022, use the phrase “the Original Issue date of Requirements Bulletin 737-25-1855 RB,” this AD requires using June 29, 2023 (the effective date of AD 2023-09-04).

(2) For paragraph (g) of this AD: Where the Compliance Time columns of the tables in the “Compliance” paragraph of Boeing Special Attention Requirements Bulletin 737-25-1866 RB, Revision 1, dated April 11, 2022, use the phrase “the Original Issue date of Requirements Bulletin 737-25-1866 RB,” this AD requires using June 29, 2023 (the effective date of AD 2023-09-04).

(3) For paragraph (h) of this AD: Where the Compliance Time columns of the tables in the “Compliance” paragraph of Boeing Special Attention Requirements Bulletin 737-25-1855 RB, Revision 1, dated April 13, 2022, use the phrase “the Original Issue date of Requirements Bulletin 737-25-1855 RB,” this AD requires using the effective date of this AD.

(4) For paragraph (h) of this AD: Where the Compliance Time columns of the tables in the “Compliance” paragraph of Boeing Special Attention Requirements Bulletin 737-25-1866 RB, Revision 2, dated July 19, 2024, use the phrase “the Original Issue date of Requirements Bulletin 737-25-1866 RB,” this AD requires using the effective date of this AD.

(5) Where Boeing Special Attention Requirements Bulletin 737-25-1855 RB, Revision 1, dated April 13, 2022; Boeing Special Attention Requirements Bulletin 737-25-1866 RB, Revision 1, dated April 11, 2022; and Boeing Special Attention Requirements Bulletin 737-25-1866 RB, Revision 2, dated July 19, 2024, specify doing an inspection of the escape slide assembly to determine whether P/N 5A3307-7 is installed, for this AD a review of airplane maintenance records is acceptable in lieu of this inspection, provided the part number of the escape slide assembly can be conclusively determined from that review.

(j) Credit for Previous Actions

(1) This paragraph provides credit for the actions specified in paragraph (g) of this AD, if those actions were performed before June 29, 2023 (the effective date of AD 2023-09-04) using Boeing Special Attention Requirements Bulletin 737-25-1855 RB, dated August 31, 2021; or Boeing Special Attention Requirements Bulletin 737-25-1866 RB, dated September 27, 2021; as applicable.

(2) This paragraph provides credit for the actions specified in paragraph (h) of this AD, if those actions were performed before the effective date of this AD using Boeing Special Attention Requirements Bulletin 737-25-1855 RB, dated August 31, 2021; Boeing Special Attention Requirements Bulletin 737-25-1866 RB, dated September 27, 2021; or Boeing Special Attention Requirements Bulletin 737-25-1866 RB, Revision 1, dated April 11, 2022; as applicable.

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: AMOC@faa.gov. Before using any approved AMOC, notify your appropriate principal inspector, or lacking a principal inspector, the manager of the responsible Flight Standards Office.

(2) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(3) AMOCs approved for AD 2023-09-04 are approved as AMOCs for the corresponding provisions of paragraph (g) of this AD.

(l) Additional Information

(1) For more information about this AD, contact Katherine Venegas, Aviation Safety Engineer, FAA, 2200 South 216th St., Des Moines, WA 98198; phone: 562-627-5353; email: katherine.venegas@faa.gov.

(2) Material identified in this AD that is not incorporated by reference is available at the address specified in paragraph (m)(5) this AD.

(m) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on January 16, 2026.

(i) Boeing Special Attention Requirements Bulletin 737-25-1866 RB, Revision 2, dated July 19, 2024.

(ii) [Reserved]

(4) The following material was approved for IBR on June 29, 2023 (88 FR 33817, May 25, 2023).

(i) Boeing Special Attention Requirements Bulletin 737-25-1855 RB, Revision 1, dated April 13, 2022.

(ii) Boeing Special Attention Requirements Bulletin 737-25-1866 RB, Revision 1, dated April 11, 2022.

(5) For the material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on December 3, 2025.
Peter A. White,
Deputy Director, Integrated Certificate Management Division, Aircraft Certification Service.

[FR Doc. 2025-22629 Filed 12-11-25; 8:45 am]

BILLING CODE 4910-13-P